DEPARTMENT OF THE INTERIOR

National Park Service

Draft General Management Plan Amendment, Draft Environmental Impact Statement, Green Spring unit of Colonial National Historical Park, Virginia

AGENCY: National Park Service, Department of Interior.

ACTION: Availability of draft general management plan and draft environmental impact statement for Green Spring unit of Colonial National Historical Park.

SUMMARY: Pursuant to section 102 (2)(C) of the National Environmental Policy Act of 1969, the National Park Service announces the availability of a Draft General Management Plan Amendment and Draft Environmental Impact Statement (DGMPA/DEIS) for the Green Spring Unit of Colonial National Historical Park, Virginia.

Dates: The DGMPA/DEIS will remain on Public Review through July 11, 2001. Public Meetings are scheduled on May 30, 2001 from 7:00 to 9:00 p.m. and on May 31, 2001 from 10:00 to Noon @: Colonial National Historical Park, Jamestown Visitor Center on Jamestown Island, 1368 Colonial Parkway, Jamestown, VA 23081.

Comments: If you wish to comment, you may submit your comments by any one of several methods. You may mail comments to Superintendent, Colonial National Historical Park, Post Office Box 210, Yorktown, Virginia 23690. Comments may be submitted electronically via the Internet to greenspring@nps.gov. Please submit Internet comments as an ASCII file avoiding the use of special characters and any form of encryption. Please also include “Attn: Green Spring Comments” and your name and return address in your Internet message. If you do not receive a confirmation from the system that we have received your Internet message, contact us directly at (757) 898-3400. Finally, you may hand-deliver comments to Colonial National Historical Park Headquarters, Route 238 & Colonial Parkway, Yorktown, VA 23690. Our practice is to make comments, including names and home addresses of respondents, available for public review during regular business hours. Individual respondents may request that we withhold their home address from the record, which we will honor to the extent allowable by law. There also may be circumstances in which we would withhold from the record a respondent's identity, as allowable by law. If you wish us to withhold your name and/or address, you must state this prominently at the beginning of your comment. However, we will not consider anonymous comments. We will make all submissions from organizations or businesses, and from individuals identifying themselves as representatives or officials of organizations or businesses, available for public inspection in their entirety.

Addresses: Copies of the DGMPA/DEIS are available by request from the Superintendent, Colonial National Historical Park, Post Office Box 210, Yorktown, Virginia 23690 or by calling 757-898-2401 or via e-mail at becky_eggleston@nps.gov.

Public Reading copies of the DGMPA/DEIS will be available for review at the following locations:

Colonial National Historical Park Headquarters(address and telephone number listed above in comments section);

Office of Public Affairs, National Park Service,Department of Interior, 18th and C Street, NW., Washington, DC 20240,215-208-6843;

Williamsburg, Virginia Area Public Libraries(Contact Colonial National Historical Park at the address or telephone above for all locations).

Supplementary Information: The DGMPA/DEIS analyzes 3 alternatives for managing the Green Spring unit of Colonial National Historical Park. Alternative A, the No Action Alternative, continues the existing management direction at the site with no general visitor access, no visitor services or interpretation and minimal maintenance of resources. Alternative B relies on currently identified core archeological features and would focus additional research, site improvements, visitor access and interpretation on a core archeological area on one side of the park site that is currently bisected by Centerville Road. Alternative C, the preferred alternative, would be predicated on a cooperative effort with local officials to remove Centerville Road, which bisects the site and detracts from the safety and quality of the park environment, and is inconsistent with the historic setting.

The DGMPA/DEIS in particular evaluates the environmental consequences of the proposed action and the other alternatives on cultural resources, natural resources, visitor experience, socioeconomic environment, and transportation and site access.

For Further Information Contact: Superintendent, Colonial National Historical Park, at the above address and telephone number.

Dated: May 2, 2001.
James Pepper,
Assistant Regional Director for Strategic Planning, Northeast Region, National Park Service.

[FR Doc. 01-12434 Filed 5-16-01; 8:45 am]

BILLING CODE 4310-70-P